DEPARTMENT OF HOUSING AND URBAN DEVELOPMENT

[Docket No. FR-5074-N-01]

Notice of Regulatory Waiver Requests Granted for the First Quarter of Calendar Year 2006

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2006, and ending on March 31, 2006.

FOR FURTHER INFORMATION CONTACT: For general information about this notice, contact Aaron Santa Anna, Assistant General Counsel for Regulations, Room 10276, Department of Housing and Urban Development, 451 Seventh Street, SW., Washington, DC 20410-0500, telephone 202-708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the first quarter of calendar year 2006.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2006, through March 31, 2006. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2006) before the next report is published (the second quarter of calendar year 2006), HUD will include any additional waivers granted for the first quarter in the next report.

Accordingly, information about approved waiver requests pertaining to HUD regulations is provided in the Appendix that follows this notice.

Dated: June 24, 2006.
Keith E. Gottfried,
General Counsel.

Appendix—Listing of Waivers of Regulatory Requirements Granted by Offices of the Department of Housing and Urban Development January 1, 2006, Through March 31, 2006

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulations: 24 CFR 91.115(c)(2).

Project/Activity: The State of Louisiana request to waive 24 CFR 91.115(c)(2) of the Community Development Block Grant (CDBG) program regulations.

Nature of Requirement: The provisions of 24 CFR 91.115(c)(2) require that a minimum of 30 days be allowed for public comment following an amendment to the state's Consolidated Plan.

Granted By: Pamela H. Patenaude, Assistant Secretary for Community Planning and Development.

Date Granted: January 20, 2006.

Reason Waived: Given the unexpected nature of the situation, Louisiana's Consolidated Plan does not give the State of Louisiana the flexibility it needs to address the unexpected needs and expenses of businesses and communities as they recover from the hurricanes. In order to quickly address these needs, it is appropriate to give the state the ability to streamline its citizen participation processes by reducing the public comment period from 30 to 10 days while still allowing for adequate public input.

Contact: Steve Johnson, Director, State and Small Cities Division, Office of Block Grant Assistance, Community Planning and Development, Department of Housing and Urban Development, Room 7184, 451 Seventh Street, SW., Washington, DC 20410, telephone (202) 708-1322.

• Regulations and Statutes: 24 CFR 91.320(c) and (g)(1), 24 CFR 91.325(b)(2)(v), 24 CFR 570.486(b); and 42 U.S.C. 5304(a)(1), 42 U.S.C. 5306(d)(1), 42 U.S.C. 5306(d)(2), 42 U.S.C. 5306(d)(2)(D).

Project/Activity: The State of Louisiana request to waive 24 CFR 91.320(c) and (g)(1), 24 CFR 91.325(b)(2)(v), 24 CFR 570.486(b) of the Community Development Block Grant (CDBG) program regulations, and suspend 42 U.S.C. 5304(a)(1), 42 U.S.C. 5306(d)(1), 42 U.S.C. 5306(d)(2), and 42 U.S.C. 5306(d)(2)(D) statutory requirements.

Nature of Requirement: The provisions of 42 U.S.C. 5304(a)(1) require that the State's method of fund distribution provide for funds to be distributed to units of general local government. The provisions of 42 U.S.C. 5306(d)(1) require that the State's CDBG funds shall be for use in non-entitlement areas. The provisions of 42 U.S.C. 5306(d)(2) require that State CDBG funds are to be distributed only to units of general local government located in non-entitlement areas of the State. The provisions of 42 U.S.C. 5306(d)(2)(D) require that the State certify that each unit of general local government to be distributed funds will identify its housing and community development needs. The provisions of 24 CFR 91.320(c) and (g)(1) require that the State describe its method of funds distribution, which must describe the criteria used to select applications from local governments for funding, including the relative importance of the criteria, and how all CDBG resources will be allocated among all funding categories and the threshold factors and grant size limits that are to be applied. The provisions of 24 CFR 570.486(b) require that units of general local government determine that the activity is meeting its needs in accordance with 42 U.S.C. 5306(d)(2)(D).

Granted By: Pamela H. Patenaude, Assistant Secretary for Community Planning and Development.

Date Granted: January 20, 2006.

Reason Waived: HUD recognizes the critical financial need to assist small firms in the State of Louisiana to remain in business or to reopen. By allowing the State to directly carry out the Bridge Loan Program throughout the thirteen-parish target area (by contracting directly with banks), economies of scale, speed and administrative simplicity can be achieved. Valuable time would be lost if the State were to have to redesign its existing program design in order to funnel this funding through units of general local government. Given that the program, as initially implemented with State funding, is designed to serve businesses throughout the target area, it would present an undue hardship to limit the availability of CDBG assistance only to businesses located in non-entitlement communities.

Contact: Steve Johnson, Director, State and Small Cities Division, Office of Block Grant Assistance, Community Planning and Development, Department of Housing and Urban Development, Room 7184, 451 Seventh Street, SW., Washington, DC 20410, telephone 202-708-1322.

• Regulation: 24 CFR 92.206(d)(5) and 24 CFR 92.502(d)(2).

Project/Activity: The State of Nebraska request to waive 24 CFR 92.206(d)(5) and 24 CFR 92.502(d)(2) of the HOME Program regulations.

Nature of Requirement: The HOME final regulations at 24 CFR 92.502(d)(2) state that, except for the 12 months following project completion, additional HOME assistance may not be provided to a previously assisted HOME project during the period of affordability.

Granted By: Pamela H. Patenaude, Assistant Secretary for Community Planning and Development.

Date Granted: March 27, 2006.

Reason Waived: In 1994 the State of Nebraska invested HOME funds in the construction of a 30-unit project. This project has been experiencing financial problems which are expected to continue as capital needs over the next 20 years will exceed current reserves and projected revenue will be insufficient to cover the existing debt service. Additional HOME funds would address these anticipated shortfalls and to facilitate the refinancing of the first mortgage. The State, the Housing Authority of the County of Scottsbluff and its partners took necessary steps to correct many of the problems the project experienced and assure the viability of the project. The partners stabilized the vacancy rate, addressed general management issues, and requested a HUD-funded technical assistance workout. The State also agreed to invest state housing trust funds into the project and to reduce the interest rate on the existing HOME loan. The State, the Housing Authority of the County of Scottsbluff, and its partners exercised due diligence in their efforts to save this project.

Contact: Virginia Sardone, Office of Community Planning and Development, Department of Housing and Urban Development, 451 Seventh Street, SW., Washington, DC 20410-7000, telephone (202) 708-2684.

• Regulation: 24 CFR 92.209(h).

Project/Activity: Arlington County, Virginia request to waive 24 CFR 92.209(h) of the HOME regulations.

Nature of Requirement: Section 92.208(h) of the HOME regulations requires participating jurisdictions (PJs) to establish a minimum contribution toward rent for tenants who receive HOME-funded tenant-based rental assistance and that the subsidy paid by the PJ not exceed the difference between the PJ's rent standard and thirty percent of the family's adjusted gross income.

Granted By: Pamela H. Patenaude, Assistant Secretary for Community Planning and Development.

Date Granted: March 22, 2006.

Reason Waived: Several families displaced by Hurricane Katrina who relocated to Arlington County, Virginia, were receiving insufficient or no assistance from the Federal Emergency Management Agency (FEMA). The county wanted to provide the same level of assistance that would ordinarily be provided under FEMA's Individuals and Households Program, which pays the family's total monthly rent and utility costs. The county needed flexibility with HOME tenant-based rental assistance to best serve the needs of these families.

Contact: Virginia Sardone, Office of Community Planning and Development, Department of Housing and Urban Development, 451 Seventh Street, SW., Washington, DC 20410-7000, telephone (202) 708-2684.

• Regulation: 24 CFR 92.300(a)(1).

Project/Activity: The State of Texas to waive 24 CFR 92.300(a)(1) of the HOME requirements.

Nature of Requirement: Section 92.300(a)(1) of the HOME regulations requires that a participating jurisdiction (PJ) reserve not less than 15 percent of each annual allocation for housing owned, sponsored or developed by Community Housing Development Organizations (CHDOs) within 24 months after HUD notifies the PJ that HUD has executed the jurisdiction's HOME Investment Partnership Agreement.

Granted By: Pamela H. Patenaude, Assistant Secretary for Community Planning and Development.

Date Granted: March 16, 2006.

Reason Waived: In October 2005, HUD suspended section 231 of the National Affordable Housing Act of 1990 and the corresponding regulations at § 92.300(a)(1) for fiscal years 2005 and 2006 due to Hurricane Rita. Although the State of Texas was released from the requirement to use 15 percent of its HOME allocation for CHDO activities, because fiscal year 2006 HOME allocations had not yet been released, the State could not put funds to immediate use to aid hurricane victims. The State requested permission to use unexpended CHDO funds from years prior to 2005 in an amount equal to 15 percent of its fiscal year 2006 HOME allocation for disaster-related activities that do not qualify as CHDO set-aside activities. Using prior years' unexpended CHDO funds will allow the State to address the affordable housing needs of victims more quickly, as the State will not receive its fiscal year 2006 HOME allocation until at least July 2006.

Contact: Virginia Sardone, Office of Community Planning and Development, Department of Housing and Urban Development, 451 Seventh Street, SW., Washington, DC 20410-7000, telephone (202) 708-2684.

• Regulation and Statute: 24 CFR 570.482(f)(6) and 42 U.S.C. 5305(e)(3).

Project/Activity: The State of Louisiana request to waive 24 CFR 570.482(f)(6) of the CDBG regulations, and suspend 42 U.S.C. 5305(e)(3) statutory requirements.

Nature of Requirement: The provisions of 24 CFR 570.482(f)(6) require that the State and its grant recipients maintain sufficient records to demonstrate the level of public benefit. The provisions of 42 U.S.C. 5305(e)(3) require the State to demonstrate that the public benefit provided by the activity is appropriate relative to the amount of assistance provided with the grant.

Granted By: Pamela H. Patenaude, Assistant Secretary for Community Planning and Development.

Date Granted: January 20, 2006.

Reason Waived: Louisiana's Bridge Loan Program, as designed, will be funded with currently obligated, but unexpended, FY 2005 and prior year funds. These funds will be used to guarantee small business loans approved by various Louisiana banks. The State intends to reimburse the CDBG funds used to guarantee these loans with supplemental disaster funds (thus freeing up the funds for previously obligated activities). As this is expected to be a short-term interim financing tool, it is extremely unlikely that the CDBG assisted economic development activities will be completed during this time. Verification that the activities meet the public benefit standards cannot be demonstrated until activities are completed. It is more likely that accomplishments achieved by guaranteeing the small business loans will be demonstrated during the reporting process for the supplemental disaster allocation.

Contact: Steve Johnson, Director, State and Small Cities Division, Office of Block Grant Assistance, Community Planning and Development, Department of Housing and Urban Development, Room 7184, 451 Seventh Street, SW., Washington, DC 20410, telephone 202-708-1322, ext. 4548.

• Regulation: 24 CFR 570.483(d).

Project/Activity: The State of Louisiana's request to waive 24 CFR 570.483(d) of the CDBG program requirements.

Nature of Requirement: The provisions of 24 CFR 570.483(d) require certification by a unit of general local government to support the classification of activities as meeting the urgent need national objective.

Granted By: Pamela H. Patenaude, Assistant Secretary for Community Planning and Development.

Date Granted: January 20, 2006.

Reason Waived: This waiver involves the Louisiana Bridge Loan Program, which the State intends to classify some of its activities as meeting the urgent need national objective. On October 28, 2005, HUD granted a waiver allowing Louisiana to change its certification of compliance with the 70 percent overall low and moderate income benefit requirement from a one year period to a two or three year period. This waiver allowed Louisiana to use a greater percentage of funds for activities that will meet the urgent need (or slum/blight) national objective. To demonstrate compliance with the urgent need national objective, however, the State CDBG program regulations require that “* * * the unit of general local government certifies, and the state determines, that the activity is designed to alleviate existing conditions which pose a serious and immediate threat to the health or welfare of the community which are of recent origin or which recently became urgent, that the unit of general local government is unable to finance the activity on its own, and that other sources of funding are not available.” Because the State will implement this program directly, units of general local government will not be involved in the funding process or in the determination of national objective compliance.

Contact: Steve Johnson, Director, State and Small Cities Division, Office of Block Grant Assistance, Community Planning and Development, Department of Housing and Urban Development, Room 7184, 451 Seventh Street, SW., Washington, DC 20410, telephone (202) 708-1322.

II. Regulatory Waivers Granted by the Office of Housing—Federal Housing Administration (FHA)

For further information about the following regulatory waivers, please see the name of the contact person that immediately follows the description of the waiver granted.

• Regulation: 24 CFR 206.51 and the portion of 24 CFR 234.1(a) that references the exclusion of 24 CFR 203.43f, insofar as these regulations collectively preclude the eligibility of individual manufactured housing units in condominium projects.

Project/Activity: Lake Padden Estates Condominium, Bellingham, WA.

Nature of Requirement: The Home Equity Conversion Mortgage (HECM) regulations at 24 CFR 206.51 provide that a condominium unit in a project committed to a plan of condominium ownership acceptable to the Secretary can be eligible security for an insured reverse mortgage loan.

Part 234 of title 24 of the Code of Federal Regulations (CFR) sets forth the eligibility requirements for insured mortgages on condominium units. Section 234.19(a) incorporates, by reference, various provisions of Subpart A of part 203 of the regulations, concerning the eligibility requirements of mortgages secured by 1 to 4 family dwellings insured under section 203 of the National Housing Act. Section 234.1(a) of 24 CFR also lists specific provisions that are not applicable to mortgages secured by condominium units and are excluded from the eligibility requirements.

Section 203.43f of 24 CFR establishes the eligibility requirements for mortgages secured by manufactured homes. The eligibility requirements for manufactured homes are specifically excluded in the list of excepted sections contained in 24 CFR 234.1(a). The exclusion of 24 CFR 203.43f in the condominium mortgage insurance regulations precludes FHA from insuring mortgages in condominium projects that are comprised of manufactured housing.

Because the condominium mortgage insurance regulations provide that manufactured home condominiums are not acceptable to HUD, these units are not eligible security under the HECM regulations. Section 206.51 of 24 CFR incorporates HUD's condominium approval requirements, including the exclusion of condominium manufactured homes as eligible HECM security.

Granted By: Brian D. Montgomery, Assistant Secretary for Housing, Federal Housing Commissioner.

Date Granted: March 23, 2006.

Reason Waived: Waiving the exclusionary provision of 24 CFR 234.1(a) pertaining to manufactured housing (i.e., the reference to 24 CFR 203.43f), as a condition of acceptability for HECM mortgage insurance under 24 CFR 206.51, is necessary in order to enable the eligible residents of the Lake Padden Estates Condominium who are 62 years of age or older to realize the equity in their homes using the HECM program as a part of their financial planning.

Contact: Peter Gillispie, Valuation Policy Division, Department of Housing and Urban Development, 451 Seventh Street, SW., Room 9270, Washington, DC 20410; telephone (202) 708-2121.

• Regulation: 24 CFR 236.725.

Project/Activity: Minneapolis, Minnesota (2100 Bloomington Court Apartments—092-007NI). The Minneapolis Multifamily Hub has requested waiver of the regulation to permit the continuation of rental assistance payments (RAP) after the payoff of the non-insured Section 236 mortgage (section 236 of the National Housing Act) under a Section 236(e)(2) decoupling transaction to permit a potential annual distribution based on current equity.

Nature of Requirement: HUD regulations at 24 CFR 236.725 require that the rental assistance contract shall be limited to the term of the mortgage or 40 years from the date of the first payment made under the contract, whichever is the lesser.

Granted By: Frank L. Davis, General Deputy Assistant Secretary for Housing—Deputy Federal Housing Commissioner.

Date Granted: January 4, 2006.

Reason Waived: This waiver was granted on the fact that the decoupling proposal did not request an increase in the Section 236 units, hence the RAP subsidy is not being increased based on this transaction. The RAP increases shall be based on budget driven project operating cost increases that will not include any new debt service costs attributable to the decoupling transaction. Further, this waiver is predicated on the project owner entering into a Decoupling Use Restriction Agreement prescribed in the Section 236(e)(2) Decoupling program. There was good cause to waive the requirement because the project is to be maintained as an affordable housing resource to the maturity date of the non-insured Section 236 mortgage plus an additional 5 years, through the execution and recording of a Decoupling Use Agreement.

Contact: Beverly J. Miller, Director, Office of Asset Management, Department of Housing and Urban Development, 451 Seventh Street, SW., Room 6160, Washington, DC 20410; telephone (202) 708-3730.

• Regulation: 24 CFR 401.461.

Project/Activity: The following project requested a waiver to the simple interest requirement on the second mortgage to allow compound interest at the applicable federal rate. (24 CFR 401.461):

FHA No. | Project | State
10535067 | St. Benedict's Manor II | UT
04335176 | Hillside Apartments | OH

Nature of Requirement: Section 401.461 requires that the second mortgages have an interest rate not more than the applicable federal rate. Section 401.461(b)(1) states that interest will accrue but not compound. The intent of simple interest instead of compound interest is to limit the size of the second mortgage accruals to increase the likelihood of long-term financial and physical integrity.

Granted By: Brian D. Montgomery, Assistant Secretary for Housing-Federal Housing Commissioner.

Date Granted: March 6, 2006.

Reason Waived: This regulatory restriction would be construed as a form of federal subsidy, thereby creating a loss of tax credit equity. This loss will adversely affect the ability to close the Restructuring Plan and could cause the loss or deterioration of these affordable housing projects. Therefore, compound interest is necessary for the owner to obtain Low Income Housing Tax Credits under favorable terms and in order to maximize the savings to the Federal Government.

Contact: Dennis Manning, Office of Affordable Housing Preservation, Department of Housing and Urban Development, 451 Seventh Street, SW., Washington, DC 20410-8000, telephone (202) 708-0614, ext. 8381.

• Regulation: 24 CFR 401.600.

Project/Activity: The following projects requested waivers to the 12-month limit at above-market rents (24 CFR 401.600):

FHA No. | Project | State
06444093 | Haydel Heights Apartments | LA
03535086 | New Sharon Woods | NJ
11235117 | Roxton Arms Apartments | TX

Nature of Requirement: Section 401.600 requires that projects be marked down to market rents within 12 months of their first expiration date after January 1, 1998. The intent of this provision is to ensure timely processing of requests for restructuring and that the properties will not default on their FHA insured mortgages during the restructuring process.

Granted By: Brian D. Montgomery, Assistant Secretary for Housing-Federal Housing Commissioner.

Date Granted: January 6, 2006.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000, telephone (202) 708-0614, ext. 8371.

• Regulation: 24 CFR 401.600.

Project/Activity: The following projects requested Housing Assistance Payment (HAP) contract extensions to the 12-month limit at above-market rents (24 CFR 401.600):

FHA No. | Project | State
05155005 | Fairhills Apartments | VA
01257193 | Felisa Rincon De Gautier Houses | NY
05435339 | Fleetwood Manor | SC
00035313 | Ivy City | DC
08335243 | Madison Avenue Apts | KY
04535102 | Market Manor | WV
13635613 | Marymead Park Apartments | CA
04335148 | Northwood Apartments | OH
04635474 | The Terraces | OH
11544037 | Villa Madre Apts | TX

Nature of Requirement: Section 401.600 requires that projects be marked down to market rents within 12 months of their first expiration date after January 1, 1998. The intent of this provision is to ensure timely processing of requests for restructuring and that the properties will not default on their FHA insured mortgages during the restructuring process.

Granted By: Brian D. Montgomery, Assistant Secretary for Housing-Federal Housing Commissioner.

Date Granted: February 14, 2006.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000, telephone (202) 708-0614, ext. 8371.

• Regulation: 24 CFR 891.100(d).

Project/Activity: Mohr Place, Wichita, KS, Project Number: 102-HD036/KS16-Q041-001.

Nature of Requirement: Section 891.100(d) prohibits amendment of the amount of the approved capital advance funds prior to initial closing.

Granted By: Brian D. Montgomery, Assistant Secretary for Housing-Federal Housing Commissioner.

Date Granted: January 4, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: LaPalma Apartments, Miami, FL, Project Number: 066-EE093/FL29--S021-014.

Nature of Requirement: Section 891.100(d) prohibits amendment of the amount of the approved capital advance funds prior to initial closing.

Granted By: Brian D. Montgomery, Assistant Secretary for Housing-Federal Housing Commissioner.

Date Granted: January 4, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Dorgan-Weaver Apartments, Branson, MO, Project Number: 084-HD050/MO16-Q041-004.

Nature of Requirement: Section 891.100(d) prohibits amendment of the amount of the approved capital advance funds prior to initial closing.

Granted By: Brian D. Montgomery, Assistant Secretary for Housing-Federal Housing Commissioner.

Date Granted: January 4, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Cheyenne Senior Housing Inc., Cheyenne, WY, Project Number: 109-EE012/WY99-S031-001.

Nature of Requirement: Section 891.100(d) prohibits amendment of the amount of the approved capital advance funds prior to initial closing.

Granted By: Brian D. Montgomery, Assistant Secretary for Housing-Federal Housing Commissioner.

Date Granted: January 9, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Barnes School Elderly Housing, Boston, MA, Project Number: 023-EE153/MA06-S021-004.

Nature of Requirement: Section 891.100(d) prohibits amendment of the amount of the approved capital advance funds prior to initial closing.

Granted By: Brian D. Montgomery, Assistant Secretary for Housing-Federal Housing Commissioner.

Date Granted: January 12, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Guadalupe I & II, Austin, TX, Project Number: 115-HD041/TX59-Q031-002.

Nature of Requirement: Section 891.100(d) prohibits amendment of the amount of the approved capital advance funds prior to initial closing.

Granted By: Brian D. Montgomery, Assistant Secretary for Housing-Federal Housing Commissioner.

Date Granted: January 31, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Riordan School Addition, Mattydale, NY, Project Number: 014-EE234/NY06-S041-003.

Nature of Requirement: Section 891.100(d) prohibits amendment of the amount of the approved capital advance funds prior to initial closing.

Granted By: Brian D. Montgomery, Assistant Secretary for Housing-Federal Housing Commissioner.

Date Granted: February 2, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Oakmont Gardens Apartments, Crossville, TN, Project Number: 087-EE054/TN37-S041-002.

Nature of Requirement: Section 891.100(d) prohibits amendment of the amount of the approved capital advance funds prior to initial closing.

Granted By: Brian D. Montgomery, Assistant Secretary for Housing-Federal Housing Commissioner.

Date Granted: February 13, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Dickinson Senior Housing Incorporated, Dickinson, ND, Project Number: 094-EE006/ND99-S041-002.

Nature of Requirement: Section 891.100(d) prohibits amendment of the amount of the approved capital advance funds prior to initial closing.

Granted By: Brian D. Montgomery, Assistant Secretary for Housing-Federal Housing Commissioner.

Date Granted: February 22, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Southern Living Apartments, Savannah, TN, Project Number: 086-EE053/TN43-S041-002.

Nature of Requirement: Section 891.100(d) prohibits amendment of the amount of the approved capital advance funds prior to initial closing.

Granted By: Brian D. Montgomery, Assistant Secretary for Housing-Federal Housing Commissioner.

Date Granted: February 23, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: B'nai B'rith Apartments at Deerfield Beach III, Deerfield Beach, FL, Project Number: 066-EE102/FL29-S041-005.

Nature of Requirement: Section 891.100(d) prohibits amendment of the amount of the approved capital advance funds prior to initial closing.

Granted By: Brian D. Montgomery, Assistant Secretary for Housing-Federal Housing Commissioner.

Date Granted: February 24, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Redbanks Regency Apartments, Henderson, KY, Project Number: 083-EE093/KY36-S041-004.

Nature of Requirement: Section 891.100(d) prohibits amendment of the amount of the approved capital advance funds prior to initial closing.

Granted By: Brian D. Montgomery, Assistant Secretary for Housing-Federal Housing Commissioner.

Date Granted: February 27, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Tikigaqmiut Senior Housing, Point Hope, AK, Project Number: 176-EE029/AK06-S021-004.

Nature of Requirement: Section 891.100(d) prohibits amendment of the amount of the approved capital advance funds prior to initial closing.

Granted By: Brian D. Montgomery, Assistant Secretary for Housing-Federal Housing Commissioner.

Date Granted: March 1, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Green Garden Apartments, Lockport, IL, Project Number: 071-HD129/IL06-Q021-009.

Nature of Requirement: Section 891.100(d) prohibits amendment of the amount of the approved capital advance funds prior to initial closing.

Granted By: Brian D. Montgomery, Assistant Secretary for Housing-Federal Housing Commissioner.

Date Granted: March 3, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Sheltering Arms Apartments, St. Joseph, MO, Project Number: 084-HD049/MO16-Q041-003.

Nature of Requirement: Section 891.100(d) prohibits amendment of the amount of the approved capital advance funds prior to initial closing.

Granted By: Brian D. Montgomery, Assistant Secretary for Housing-Federal Housing Commissioner.

Date Granted: March 3, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Edsil's Place Apartments, Louisville, KY, Project Number: 083-HD083/KY36-Q041-003.

Nature of Requirement: Section 891.100(d) prohibits amendment of the amount of the approved capital advance funds prior to initial closing.

Granted By: Brian D. Montgomery, Assistant Secretary for Housing-Federal Housing Commissioner.

Date Granted: March 3, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Aaniyak Senior Housing, Anaktuvuk Pass, AK, Project Number: 176-EE030/AK06-S021-005.

Nature of Requirement: Section 891.100(d) prohibits amendment of the amount of the approved capital advance funds prior to initial closing.

Granted By: Brian D. Montgomery, Assistant Secretary for Housing-Federal Housing Commissioner.

Date Granted: March 3, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Carlton Avenue Group Homes, Charlottesville, VA, Project Number: 051-HD123/VA36-Q031-005.

Nature of Requirement: Section 891.100(d) prohibits amendment of the amount of the approved capital advance funds prior to initial closing.

Granted By: Brian D. Montgomery, Assistant Secretary for Housing-Federal Housing Commissioner.

Date Granted: March 8, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Old Middleton Road, Madison, WI, Project Number: 075-HD082/WI39-Q041-001.

Nature of Requirement: Section 891.100(d) prohibits amendment of the amount of the approved capital advance funds prior to initial closing.

Granted By: Brian D. Montgomery, Assistant Secretary for Housing-Federal Housing Commissioner.

Date Granted: March 8, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bellpoint Independent Living, Stuttgart, AR, Project Number: 082-HD082/AR37-Q041-004.

Nature of Requirement: Section 891.100(d) prohibits amendment of the amount of the approved capital advance funds prior to initial closing.

Granted By: Brian D. Montgomery, Assistant Secretary for Housing-Federal Housing Commissioner.

Date Granted: March 8, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Florentz Estates, Conway, AR, Project Number: 082-HD083/AR37-Q041-005.

Nature of Requirement: Section 891.100(d) prohibits amendment of the amount of the approved capital advance funds prior to initial closing.

Granted By: Brian D. Montgomery, Assistant Secretary for Housing-Federal Housing Commissioner.

Date Granted: March 8, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Grace Manor, Inglewood, CA, Project Number: 122-HD159/CA16-Q031-002.

Nature of Requirement: Section 891.100(d) prohibits amendment of the amount of the approved capital advance funds prior to initial closing.

Granted By: Brian D. Montgomery, Assistant Secretary for Housing-Federal Housing Commissioner.

Date Granted: March 8, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Wills Manor, Los Angeles, CA, Project Number: 122-HD161/CA16-Q031-004.

Nature of Requirement: Section 891.100(d) prohibits amendment of the amount of the approved capital advance funds prior to initial closing.

Granted By: Brian D. Montgomery, Assistant Secretary for Housing-Federal Housing Commissioner.

Date Granted: March 9, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Dixieland Garden Senior Housing, Rogers, AR, Project Number: 082-EE168/AR37-S041-008.

Nature of Requirement: Section 891.100(d) prohibits amendment of the amount of the approved capital advance funds prior to initial closing.

Granted By: Brian D. Montgomery, Assistant Secretary for Housing-Federal Housing Commissioner.

Date Granted: March 10, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Providence Place, Salem, OR, Project Number: 126-EE049/OR16-S031-003.

Nature of Requirement: Section 891.100(d) prohibits amendment of the amount of the approved capital advance funds prior to initial closing.

Granted By: Brian D. Montgomery, Assistant Secretary for Housing-Federal Housing Commissioner.

Date Granted: March 15, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Rendu Terrace West, Mobile, AL, Project Number: 062-EE063/AL09-S031-004.

Nature of Requirement: Section 891.100(d) prohibits amendment of the amount of the approved capital advance funds prior to initial closing.

Granted By: Brian D. Montgomery, Assistant Secretary for Housing-Federal Housing Commissioner.

Date Granted: March 20, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Dunson School Apartments, LaGrange, GA, Project Number: 061-EE145/GA06-S041-016.

Nature of Requirement: Section 891.100(d) prohibits amendment of the amount of the approved capital advance funds prior to initial closing.

Granted By: Brian D. Montgomery, Assistant Secretary for Housing-Federal Housing Commissioner.

Date Granted: March 20, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Duluth Supportive Housing, Inc., Duluth, MN, Project Number: 092-HD066/MN46-Q041-004.

Nature of Requirement: Section 891.100(d) prohibits amendment of the amount of the approved capital advance funds prior to initial closing.

Granted By: Brian D. Montgomery, Assistant Secretary for Housing-Federal Housing Commissioner.

Date Granted: March 23, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Forest Ridge Manor, Kingsport, TN, Project Number: 087-EE053/TN37-S041-001.

Nature of Requirement: Section 891.100(d) prohibits amendment of the amount of the approved capital advance funds prior to initial closing.

Granted By: Brian D. Montgomery, Assistant Secretary for Housing-Federal Housing Commissioner.

Date Granted: March 24, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Oaks Terrace Senior Living, Frederick, MO, Project Number: 085-EE078/MO36-S041-001.

Nature of Requirement: Section 891.100(d) prohibits amendment of the amount of the approved capital advance funds prior to initial closing.

Granted By: Brian D. Montgomery, Assistant Secretary for Housing-Federal Housing Commissioner.

Date Granted: March 28, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Cloud Villas II, St. Cloud, FL, Project Number: 067-EE132/FL29-S041-004.

Nature of Requirement: Section 891.100(d) prohibits amendment of the amount of the approved capital advance funds prior to initial closing.

Granted By: Brian D. Montgomery, Assistant Secretary for Housing-Federal Housing Commissioner.

Date Granted: March 29, 2006.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Oak Creek II, East Brunswick, NJ, Project Number: 031-EE062/NJ39-S031-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 4, 2006.

Reason Waived: The project is economically designed and comparable to similar projects in the area, and the sponsor/owner exhausted all efforts to obtain additional funding from other sources. The sponsor/owner required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Advance Supportive Housing II, New Milford, NJ, Project Number: 031-HD139/NJ39-Q031-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 4, 2006.

Reason Waived: The project is economically designed and comparable to similar projects in the area, and the sponsor/owner exhausted all efforts to obtain additional funding from other sources. The sponsor/owner required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Villa DeLucas, Beaumont, TX, Project Number: 114-HD028/TX24-Q031-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 4, 2006.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Hanover Lutheran Retirement Community 2003, Hanover, PA, Project Number: 034-EE135/PA26-S031-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 24, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Columbus/Walnut, Boston, MA, Project Number: 023-EE173/MA06-S031-008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 27, 2006.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Union Apartments Program, Roselle Park, NJ, Project Number: 031-HD127/NJ39-Q011-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 1, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Sunset Gardens Senior Housing, Brooklyn, NY, Project Number: 012-EE321/NY36-S021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 7, 2006.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Glendale Haciendas, Glendale, AZ, Project Number: 123-EE091/AZ20-S031-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 13, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Acadian Heritage Apartments, Scott, LA, Project Number: 064-EE152/LA48-S031-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 14, 2006.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Peace Villa Senior Living, St. Louis, MO, Project Number: 085-EE070/MO36-S031-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 8, 2006.

Reason Waived: The project is economically designed and comparable to similar projects in the area, and the sponsor/owner exhausted all efforts to obtain additional funding from other sources. The sponsor/owner needed additional time to resolve a lien issue on the property.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Beth Abraham Section 811 Development, Harrison, NY, Project Number: 012-HD104/NY36-Q011-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 28, 2006.

Reason Waived: The project is economically designed and comparable to similar projects in the area, and the sponsor/owner exhausted all efforts to obtain additional funding from other sources. The sponsor/owner needed additional time to locate another site.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Northwest Georgia VOA Housing, Inc., Lafayette, GA, Project Number: 061-HD090/GA06-Q031-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 28, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Mantua Supported Independent Living, Philadelphia, PA, Project Number: 034-HD078/PA26-Q041-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 29, 2006.

Reason Waived: The project is economically designed and comparable to similar projects in the area, and the sponsor/owner exhausted all efforts to obtain additional funding from other sources. The sponsor/owner required additional time to prepare for initial closing.

Contact: Willie Spearmon, Director, Office of Housing Assistance and Grant Administration, Department of Housing and Urban Development, 451 Seventh Street, SW., Washington, DC 20410-8000, telephone (202) 708-3000.

• Regulation: 24 CFR 891.130.

Project/Activity: Wainwright Alaska, Wainwright, AK, Project Number: 176-EE031/AK06-S021-006.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing-Federal Housing Commissioner.

Date Granted: February 3, 2006.

Reason Waived: The leasing of the site from the Village Corporation, to which all of the directors of the owner have an interest acquired under the Indian Claims Settlement Act, was approved because it is being leased for $1 and there is a lack of suitable sites in the community. The general contractor, of which the Village Corporation owns 51 percent of the shares, was approved because of the specialized experience of the contractor for constructing in the community and the benefit to the community in providing employment opportunities for the local labor force. A prohibited identity of interest between the general contractor and the Village Corporation, both development team members, was approved because of the isolated location of the community and the fact that all of the directors of the owner as well as all adult members of the community have an interest in both team members by reason of the Indian Claims Settlement Act.

Contact: Willie Spearmon, Director, Office of Housing Assistance and Grant Administration, Department of Housing and Urban Development, 451 Seventh Street, SW., Washington, DC 20410-8000, telephone (202) 708-3000.

• Regulation: 24 CFR 891.130.

Project/Activity: Anaktuvuk Pass Alaska, Anaktuvuk Pass, AK, Project Number: 176-EE030/AK06-S021-005.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing-Federal Housing Commissioner.

Date Granted: February 3, 2006.

Reason Waived: The leasing of the site from the Village Corporation, to which all of the directors of the owner have an interest acquired under the Indian Claims Settlement Act, was approved because it is being leased for $1 and there is a lack of suitable sites in the community. The general contractor, of which the Village Corporation owns 51 percent of the shares, was approved because of the specialized experience of the contractor for constructing in the community and the benefit to the community in providing employment opportunities for the local labor force. A prohibited identity of interest between the general contractor and the Village Corporation, both development team members, was approved because of the isolated location of the community and the fact that all of the directors of the owner as well as all adult members of the community have an interest in both team members by reason of the Indian Claims Settlement Act.

Contact: Willie Spearmon, Director, Office of Housing Assistance and Grant Administration, Department of Housing and Urban Development, 451 Seventh Street, SW., Washington, DC 20410-8000, telephone (202) 708-3000.

• Regulation: 24 CFR 891.130.

Project/Activity: Point Hope Alaska, Point Hope, AK, Project Number: 176-EE029/AK06-S021-004.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing-Federal Housing Commissioner.

Date Granted: February 8, 2006.

Reason Waived: The leasing of the site from the Village Corporation, to which all of the directors of the owner have an interest acquired under the Indian Claims Settlement Act, was approved because it is being leased for $1 and there is a lack of suitable sites in the community. The general contractor, of which the Village Corporation owns 51 percent of the shares, was approved because of the specialized experience of the contractor for constructing in the community and the benefit to the community in providing employment opportunities for the local labor force. A prohibited identity of interest between the general contractor and the Village Corporation, both development team members, was approved because of the isolated location of the community and the fact that all of the directors of the owner as well as all adult members of the community have an interest in both team members by reason of the Indian Claims Settlement Act.

Contact: Willie Spearmon, Director, Office of Housing Assistance and Grant Administration, Department of Housing and Urban Development, 451 Seventh Street, SW., Washington, DC 20410-8000, telephone (202) 708-3000.

• Regulation: 24 CFR 891.130.

Project/Activity: Kaktovic Alaska, Wainwright, AK, Project Number: 176-EE032/AK06-S021-007.

Nature of Requirement: Section 891.130 prohibits officers and board members of the project's sponsor and owner from having any financial interest in any contract with the owner or any firm which has a contract with the owner. It also prohibits an identity of interest between the sponsor or owner with development team members or between development team members until two years after final closing.

Granted By: Brian D. Montgomery, Assistant Secretary for Housing-Federal Housing Commissioner.

Date Granted: February 24, 2006.

Reason Waived: The leasing of the site from the Village Corporation, to which all of the directors of the owner have an interest acquired under the Indian Claims Settlement Act, was approved because it is being leased for $1 and there is a lack of suitable sites in the community. The general contractor, of which the Village Corporation owns 51 percent of the shares, was approved because of the specialized experience of the contractor for constructing in the community and the benefit to the community in providing employment opportunities for the local labor force. A prohibited identity of interest between the general contractor and the Village Corporation, both development team members, was approved because of the isolated location of the community and the fact that all of the directors of the owner as well as all adult members of the community have an interest in both team members by reason of the Indian Claims Settlement Act.

Contact: Willie Spearmon, Director, Office of Housing Assistance and Grant Administration, Department of Housing and Urban Development, 451 Seventh Street, SW., Washington, DC 20410-8000, telephone (202) 708-3000.

• Regulation: 24 CFR 891.165.

Project/Activity: New Life Senior Resort, Christiansted, St. Croix, VI, Project Number: 056-EE047/VQ46-S021-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: January 4, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Winfield Good Samaritan Housing, Winfield, KS, Project Number: 102-EE027/KS16-S031-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 4, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Howland Housing, Howland Twp, OH, Project Number: 042-EE161/OH12-S031-014.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 4, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: NCR of Latrobe, Latrobe, PA, Project Number: 033-EE117/PA28-S031-005.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 4, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Omaha Care Senior Living, Macy, NE, Project Number: 103-EE030/NE26-S031-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 4, 2006.

Reason Waived: The sponsor/owner needed additional time to secure grant from the State of Nebraska and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Burrell Housing, Springfield, MO, Project Number: 084-HD045/MO16-Q031-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 4, 2006.

Reason Waived: The sponsor/owner needed additional time for the city to approve the modification to the project's construction plans.

Contact: Willie Spearmon, Director, Office of Housing Assistance and Grant Administration, Department of Housing and Urban Development, 451 Seventh Street, SW., Washington, DC 20410-8000, telephone (202) 708-3000.

• Regulation: 24 CFR 891.165.

Project/Activity: Estancias Presbisterianas del Angel, Hormigueros, PR, Project Number: 056-EE056/RQ46-S031-009.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 6, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Victor Hernandez Building, Aguadilla, PR, Project Number: 056-EE045/RQ46-S021-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 6, 2006.

Reason Waived: The sponsor/owner needed additional time to prepare for initial closing.

Contact: Willie Spearmon, Director, Office of Housing Assistance and Grant Administration, Department of Housing and Urban Development, 451 Seventh Street, SW., Washington, DC 0410-8000, telephone (202) 708-3000.

• Regulation: 24 CFR 891.165.

Project/Activity: New Community Independent Living, Marlton, NJ, Project Number: 035-HD056/NJ39-Q031-006.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 9, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Sherman Apartments, Aurora, IL, Project Number: 071-HD121/IL06-Q011-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 25, 2006.

Reason Waived: Additional time was needed to process the firm commitment application and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Caring Residential Services II, Pleasantville, NJ, Project Number: 035-EE046/NJ39-S031-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 26, 2006.

Reason Waived: The sponsor/owner needed additional time to redesign the project in order to reduce the cost to develop the project.

Contact: Willie Spearmon, Director, Office of Housing Assistance and Grant Administration, Department of Housing and Urban Development, 451 Seventh Street, SW., Washington, DC 20410-8000, telephone (202) 708-3000.

• Regulation: 24 CFR 891.165.

Project/Activity: Senior Residence at Kapolei, Kapolei, HI, Project Number: 140-EE024/HI10-S011-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 31, 2006.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Goremont, Tabor City, NC, Project Number: 053-HD203/NC19-Q021-006.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 15, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Marshall Road, Wellesley, MA, Project Number: 023-HD181/MA06-Q011-009.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 16, 2006.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Volunteers of America—Mora, Mora, MN, Project Number: 092-HD056/MN46-Q021-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 17, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Forest Park Housing, Forest Park, OH, Project Number: 046-HD026/OH10-Q031-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 17, 2006.

Reason Waived: The sponsor/owner needed additional time to locate another general contractor.

Contact: Willie Spearmon, Director, Office of Housing Assistance and Grant Administration, Department of Housing and Urban Development, 451 Seventh Street, SW., Washington, DC 20410-8000, telephone (202) 708-3000.

• Regulation: 24 CFR 891.165.

Project/Activity: Greendale Residence, Needham, MA, Project Number: 023-HD190/MA06-Q021-008.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 27, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: TBD—21st Association Properties, West Springfield, MA, Project Number: 023-HD196/MA06-Q031-004.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 27, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Palermo Lakes Apartments, Miami, FL, Project Number: 066-EE100/FL29-S031-012.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: February 28, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Villa Regina, West Palm Beach, FL, Project Number: 066-EE086/FL29-S011-010.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 8, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Nanaikeola Senior Apartments, Waianae, HI, Project Number: 140-EE019/HI10-S991-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 8, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: LaPalma Apartments, Miami, FL, Project Number: 066-EE093/FL29-S021-014.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: March 10, 2006.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.410(c).

Project/Activity: Lewisburg, Ohio (Cherry Arbors “ Project Number 043-EH010). The Ohio Multifamily Hub requested a waiver of the age requirements for the project to alleviate the project's current occupancy problems.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Frank L. Davis, General Deputy Assistant Secretary for Housing “ Deputy Federal Housing Commissioner.

Date Granted: March 23, 2006.

Reason Waived: This waiver was granted to allow the project owner flexibility in renting up vacant units to individuals who meet the definition of non elderly (between the ages of 55 and 62 years). The owner aggressively marketed the property but due to the soft housing market and the surplus of elderly housing in the surrounding area, the property has experienced severe vacancy problems. These efforts allowed the owner to maintain the necessary income to operate the property and prevent foreclosure.

Contact: Beverly J. Miller, Director, Office of Asset Management, Department of Housing and Urban Development, 451 Seventh Street, SW., Room 6160, Washington, DC 20410-8000, telephone (202) 708-3730.

• Regulation: 24 CFR 891.410(c).

Project/Activity: Pittsburgh, Pennsylvania (Sylvania Place—Project Number 033-EE074). The Pittsburgh Multifamily Program Center requested a waiver of the very low-income requirement for the property to alleviate the current occupancy problem.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Brian D. Montgomery, Assistant Secretary for Housing—Federal Housing Commissioner.

Date Granted: March 20, 2006.

Reason Waived: This waiver was granted an age waiver and income waiver for this project to allow flexibility in renting up this Section 202/8 Supportive Housing for the Elderly project, with a project rental assistance contract (PRAC). The property's location is remote and perceived as being in a high crime area, discouraging many applicants from considering residency there. The waiver allowed the property to admit only lower-income applicants where there are no very low-income applicants to fill vacancies and help cure the cash flow problems the project has been experiencing.

Contact: Beverly J. Miller, Director, Office of Asset Management, Department of Housing and Urban Development, 451 Seventh Street, SW., Room 6160, Washington, DC 20410-8000, telephone (202) 708-3730.

• Regulation: 24 CFR 891.410(c).

Project/Activity: Humacao, Puerto Rico (Colinas De Ryder (a/k/a Ryder Village II—Project Number 056-EE031. The Atlanta Multifamily Hub requested a waiver of the very low-income requirement for this property due to vacancy problems.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Frank L. Davis, General Deputy Assistant Secretary for Housing—Deputy Federal Housing Commissioner.

Date Granted: January 10, 2006.

Reason Waived: This waiver was granted for the very low-income requirement for this Section 202/8 Supportive Housing for the Elderly Program project, in order to permit admission of lower-income elderly applicants when there are no very-low-income elderly applicants to fill vacant units. The property is located in a rural area making it difficult to attract and maintain very low-income elderly applicants. Despite aggressive marketing efforts, the property currently has 24 vacant units. Their waiting list consists of lower-income elderly applicants. Waiver of this regulation allowed the property to operate successfully and achieve full occupancy.

Contact: Beverly J. Miller, Director, Office of Asset Management, Department of Housing and Urban Development, 451 Seventh Street, SW., Room 6160, Washington, DC 20410-8000, telephone (202) 708-3730.

• Regulation: 24 CFR 891.410(c).

Project/Activity: Barranquitas, Puerto Rico. (Casa Barranquitas—Project Number 056-EH346). The Atlanta Multifamily Hub has requested a waiver of the very-low-income requirement for the subject property due to problems renting up vacant units.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Frank L. Davis, General Deputy Assistant Secretary for Housing—Deputy Federal Housing Commissioner.

Date Granted: January 6, 2006.

Reason Waived: This waiver was granted for the age requirement to alleviate the current occupancy problem. Due to the rural location within the municipality of Barranquitas, the owner has been unable to attract and maintain very low-income elderly tenants. The local housing market indicates there is not a sufficient demand for the very low-income elderly. The property currently has 8 vacant units and the waiting list consists of only one very low-income elderly applicant and 11 lower-income elderly applicants. Waiver of the regulation allowed the project to operate successfully and achieve full occupancy.

Contact: Beverly J. Miller, Director, Office of Asset Management, Department of Housing and Urban Development, 451 Seventh Street, SW., Room 6160, Washington, DC 20410-8000, telephone (202) 708-3730.

• Regulation: 24 CFR 891.410(c).

Project/Activity: Ciales, Puerto Rico (Ovidio Lamoso Coira—Project Number 056-EE007). The Atlanta Multifamily Hub requested waiver of the age and income restriction for the subject Section 202/8 Supportive Housing for the Elderly project with a Project Rental Assistance Contract (PRAC).

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Brian D. Montgomery, Assistant Secretary for Housing—Federal Housing Commissioner.

Date Granted: January 4, 2006.

Reason Waived: This waiver was granted for the age/income restriction because the project has experienced occupancy problems due to its remote location and difficulty in attracting and maintaining very low-income elderly tenants. The owner/management agent continues to aggressively market the property with the local housing authorities and various religious, social and community organizations within the municipality, neighboring municipalities and the mainland. The property currently has 16 vacant units with no waiting list. Waiver of the regulation allowed the project to operate successfully and achieve full occupancy.

Contact: Beverly J. Miller, Director, Office of Asset Management, Department of Housing and Urban Development, 451 Seventh Street, SW., Room 6160, Washington, DC 20410-8000, telephone (202) 708-3730.

• Regulation: 24 CFR 891.410(c).

Project/Activity: Carlisle, Kentucky (Shepherd Place Apartments—Project Number 083-EH268). The Atlanta Multifamily Hub requested waiver of the very low-income limit and reduction of the age limit for the subject project due to severe vacancy problems.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Frank L. Davis, General Deputy Assistant Secretary for Housing-Deputy Federal Housing Commissioner.

Date Granted: February 9, 2006.

Reason Waived: This waiver was granted to allow the property to rent up vacant units and achieve full occupancy. The property is located in rural Nicholas County, which consists of farmland and has 7 vacant units and no waiting list. Providing this waiver allowed the owner/management agent to stabilize the project's current financial status and prevent foreclosure.

Contact: Beverly J. Miller, Director, Office of Asset Management, Department of Housing and Urban Development, 451 Seventh Street, SW., Room 6160, Washington, DC 20410-8000, telephone (202) 708-3730.

• Regulation: 24 CFR 891.410(c).

Project/Activity: Lewisburg, Ohio (Cherry Arbors— Project Number 043-EH010). The Ohio Multifamily Hub requested a waiver of the age requirements for the project to alleviate the project's current occupancy problems.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Frank L. Davis, General Deputy Assistant Secretary for Housing—Deputy Federal Housing Commissioner.

Date Granted: March 23, 2006.

Reason Waived: This waiver was granted to allow the project owner flexibility in renting up vacant units to individuals who meet the definition of non elderly (between the ages of 55 and 62 years). The owner aggressively marketed the property but due to the soft housing market and the surplus of elderly housing in the surrounding area, the property has experienced severe vacancy problems. These efforts allowed the owner to maintain the necessary income to operate the property and prevent foreclosure.

Contact: Beverly J. Miller, Director, Office of Asset Management, Department of Housing and Urban Development, 451 Seventh Street, SW., Room 6160, Washington, DC 20410-8000, telephone (202) 708-3730.

• Regulation: 24 CFR 891.410(c).

Project/Activity: Pittsburgh, Pennsylvania (Sylvania Place “ Project Number 033-EE074). The Pittsburgh Multifamily Program Center requested a waiver of the very low-income requirement for the property to alleviate the current occupancy problem.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Brian D. Montgomery, Assistant Secretary for Housing—Federal Housing Commissioner.

Date Granted: March 20, 2006.

Reason Waived: This waiver was granted to allow an age and income waiver for this project to allow flexibility in renting up this Section 202/8 Supportive Housing for the Elderly project, with a Project Rental Assistance Contract (PRAC). The property's location is remote and perceived as being in a high crime area, discouraging many applicants from considering residency there. This waiver allowed the property to admit only lower-income applicants where there are no very low-income applicants to fill vacancies and help cure the cash flow problems the project has been experiencing.

Contact: Beverly J. Miller, Director, Office of Asset Management, Department of Housing and Urban Development, 451 Seventh Street, SW., Room 6160, Washington, DC 20410-8000, telephone (202) 708-3730.

• Regulation: 24 CFR 891.410(c).

Project/Activity: Barranquitas, Puerto Rico. (Casa Barranquitas— Project Number 056-EH346). The Atlanta Multifamily Hub has requested a waiver of the very low-income requirement for the subject property due to problems renting up vacant units.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Frank L. Davis, General Deputy Assistant Secretary for Housing—Deputy Federal Housing Commissioner.

Date Granted: January 6, 2006.

Reason Waived: This waiver was granted for age requirement to alleviate the current occupancy problem. Due to the rural location within the municipality of Barranquitas, the owner has been unable to attract and maintain very low-income elderly tenants. The local housing market indicates there is not a sufficient demand for the very low-income elderly. The property currently has 8 vacant units and the waiting list consists of only one very low-income elderly applicant and 11 lower-income elderly applicants. Waiver of the regulation allowed the project to operate successfully and achieve full occupancy.

Contact: Beverly J. Miller, Director, Office of Asset Management, Department of Housing and Urban Development, 451 Seventh Street, SW., Room 6160, Washington, DC 20410; telephone (202) 708-3730.

• Regulation: 24 CFR 891.410(c).

Project/Activity: Ciales, Puerto Rico (Ovidio Lamoso Coira—Project Number 056-EE007). The Atlanta Multifamily Hub requested waiver of the age and income restriction for the subject Section 202/8 Supportive Housing for the Elderly project with a Project Rental Assistance Contract (PRAC).

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Brian D. Montgomery, Assistant Secretary for Housing—Federal Housing Commissioner.

Date Granted: January 4, 2006.

Reason Waived: This waiver was granted for the age/income restriction because the project has experienced occupancy problems due to its remote location and difficulty in attracting and maintaining very low-income elderly tenants. The owner/management agent continues to aggressively market the property with the local housing authorities and various religious, social and community organizations within the municipality, neighboring municipalities and the mainland. The property currently has 16 vacant units with no waiting list. Waiver of the regulation allowed the project to operate successfully and achieve full occupancy.

Contact: Beverly J. Miller, Director, Office of Asset Management, Department of Housing and Urban Development, 451 Seventh Street, SW., Room 6160, Washington, DC 20410-8000, telephone (202) 708-3730.

• Regulation: 24 CFR 891.410(c).

Project/Activity: Carlisle, Kentucky (Shepherd Place Apartments—Project Number 083-EH268). The Atlanta Multifamily Hub requested waiver of the very low-income limit and reduction of the age limit for the subject project due to severe vacancy problems.

Nature of Requirement: Section 891.410 requires admission of families to projects for the elderly or handicapped that receive reservations under Section 202 of the Housing Act of 1959 and housing assistance under section 8 of the U.S. Housing Act of 1937. Section 891.410(c) limits occupancy to very low-income (VLI) elderly persons (i.e., households composed of one or more persons at least one of whom is 62 years of age at the time of initial occupancy).

Granted By: Frank L. Davis, General Deputy Assistant Secretary for Housing-Deputy Federal Housing Commissioner.

Date Granted: February 9, 2006.

Reason Waived: This waiver was granted to allow the property to rent up vacant units and achieve fully occupancy. The property is located in rural Nicholas County, which consists of farmland and has 7 vacant units and no waiting list. Providing this waiver allowed the owner/management agent to stabilize the project's current financial status and prevent foreclosure.

Contact: Beverly J. Miller, Director, Office of Asset Management, Department of Housing and Urban Development, 451 Seventh Street, SW., Room 6160, Washington, DC 20410-8000, telephone (202) 708-3730.

III. Regulatory Waivers Granted by the Office of Public and Indian Housing

For further information about the following regulatory waivers, please see the name of the contact person that immediately follows the description of the waiver granted.

• Regulation: 24 CFR Part 5.

Project/Activity: Covington Housing Authority (LA238), Covington, LA.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: March 27, 2006.

Reason Waived: The HA requested a waiver from submitting its audited financial information for FYE March 31, 2005. The HA was unable to complete the audit process due to extensive damage to its administrative office and loss of the financial records caused by Hurricane Katrina. The audited financial reporting requirements under the Financial Assessment Subsystem (FASS) were waived for FYE March 31, 2005 because the circumstances surrounding the waiver request were unusual and beyond the HA's control.

Contact: David R. Ziaya, Program Manager, NASS, Real Estate Assessment Center, Office of Public and Indian Housing, Department of Housing and Urban Development, 550 12th Street, SW., Suite 100, Washington, DC 20410-5000, telephone (202) 475-8574.

• Regulations: 24 CFR part 5 and 24 CFR Chapter IX

Project/Activity: The PHAs identified in Table 1, are all located within a presidentially declared disaster area as a result of damages caused by Hurricanes Katrina and/or Rita or Hurricane Wilma, and each PHA notified HUD of the need for one or more regulatory waivers made available to PHAs in Hurricanes Katrina, Rita and Wilma disaster areas by three Federal Register notices. The first notice is Regulatory and Administrative Waivers Granted for Public and Indian Housing Programs to Assist with Recovery and Relief in Hurricane Katrina Disaster Areas, signed September 27, 2005, and published in the Federal Register on October 3, 2005 (70 FR 57716), the second notice is Regulatory and Administrative Waivers Granted for Public and Indian Housing Programs to Assist with Recovery and Relief in Hurricane Rita Disaster Areas; and Additional Administrative Relief for Hurricane Katrina, signed October 25, 2005, and published in the Federal Register on November 1, 2005 (70 FR 66222), and the third notice is Regulatory and Administrative Waivers Granted for Public and Indian Housing Programs To Assist With Recovery and Relief in Hurricane Wilma Disaster Areas, signed on March 7, 2006, and published in the Federal Register on March 13, 2006 (71 FR 12988).

Nature of Requirements: The three Federal Register notices provided for waiver of the following regulations, in 24 CFR part 5 and 24 CFR Chapter IX for those PHAs in the disaster areas that notified HUD through a special waiver request process designed to expedite both the submission of regulatory requests to HUD and HUD's response to the request.

1. 24 CFR 5.216(g)(5) (Disclosure and Verification of Social Security and Employer Identification Numbers);

2. 24 CFR 5.512(c) (Verification of Eligible Immigration Status; Secondary Verification);

3. 24 CFR 5.801(c) and 5.801(d) (Uniform Financial Reporting Standards (UFRS));

4. 24 CFR 902 (Public Housing Assessment System (PHAS));

5. 24 CFR 903.5 (Annual Plan Submission Deadline);

6. 24 CFR 905.10(i) (Capital Fund Formula; Limitation of Replacement Housing Funds to New Development);

7. 24 CFR 941.306 (Maximum Project);

8. 24 CFR 965.302 (Requirement for Energy Audits);

9. 24 CFR 982.54 (Administrative Plan);

10. 24 CFR 982.206 (Waiting List; Opening and Public Notice);

11. 24 CFR 982.401(d) (Housing Quality Standards; Space Requirements);

12. 24 CFR 982.503(b) (Waiver of payment standard; Establishing Payment Standard; Amounts);

13. 24 CFR 984.303 (Contract of Participation; Family Self-Sufficiency (FSS) Program; Extension of Contract) and 24 CFR 984.105 (Minimum Payment Size);

14. 24 CFR part 985 (Section 8 Management Assessment Program (SEMAP)); and

15. 24 CFR 990.145 (Dwelling Units with Approved Vacancies).

16. 24 CFR 1000.156 and 1000.158 (IHBG Moderate Design Requirements for Housing Development).

17. 24 CFR 1000.214 (Indian Housing Plan (IHP) Submission Deadline).

18. 24 CFR 1003.400(c) and Section I.C. of FY 2005 Indian Community Development Block Grants (ICDBG) Program Notice of Funding Availability (NOFA) (Grant Ceilings for ICDBG Imminent Threat Applications).

19. 24 CFR 1003.401 and Section I.C. of FY 2005 ICDBG NOFA (Application Requirements for ICDBG Imminent Threat Funds).

20. 24 CFR 1003.604 (ICDBG Citizen Participation Requirements).

Both Federal Register notices described the regulatory requirement in detail and the period of suspension or alternative compliance date.

Granted By: Roy A. Bernardi, Deputy Secretary by the October 3, 2005 notice and the November 1, 2005 notice, both in the Federal Register. The March 13, 2006 notice was granted by Orlando J. Cabrera, Assistant Secretary, Public and Indian Housing, published in the Federal Register.

Date Granted: Please refer to Table 1. Table 1 identifies Public Housing Agencies (PHAs) that have requested and were granted the regulatory waivers made available through the three Federal Register notices. The table identity's by number (as listed in the Federal Register notices) the regulatory waivers granted to each housing entity and identifies whether the housing entity was located in a Hurricane Katrina, Hurricane Rita or Hurricane Wilma disaster area.

Reason waived: The regulations waived in the October 3, 2005, and the November 1, 2005, and the March 13, 2006, Federal Register notices were waived to facilitate the delivery of safe and decent housing under HUD's Public Housing programs to families and individuals that were displaced from their housing as a result of the hurricanes.

Contacts: Reference the item numbers with the items identified in the aforementioned “Nature of Requirements” section for the following contacts: For requirements 1, 2 and 8—Patricia S. Arnaudo, Director, Public Housing Management and Occupancy Division, Office of Public Housing and Voucher Programs, Office of Public and Indian Housing, Department of Housing and Urban Development, 451 Seventh Street, SW., Room 4222, Washington, DC 20410-5000, telephone (202) 708-0744; For requirements 3, 4 and 15—Wanda F. Funk, Senior Advisor, Real Estate Assessment Center, Office of Public and Indian Housing, Department of Housing and Urban Development, 550 12th Street, SW., Suite 100, Washington, DC 20410-5000, telephone (202) 475-8736; For requirement 5—Merrie Nichols-Dixon, Division Director, Compliance and Coordination Division, Office of Field Operations, Office of Public and Indian Housing, Department of Housing and Urban Development, 451 Seventh Street, SW., Room 4112, Washington, DC 20410-5000, telephone (202) 708-4016. For requirements 6 and 7—William C. Thorson, Director, Capital Fund Division, Public Housing Investments, Office of Public and Indian Housing, Department of Housing and Urban Development, 451 Seventh Street, SW., Room 4146, Washington, DC 20410-5000, telephone (202) 708-1640; For requirements 9-14—Alfred C. Jurison, Director, Housing Voucher Management and Operations Division, Office of Public Housing and Voucher Programs, Office of Public and Indian Housing, Department of Housing and Urban Development, 451 Seventh Street, SW., Room 4210, Washington, DC 20410-5000, telephone (202) 708-0477; For requirements 16-20—Deborah M. Lalancette, Director, Office of Grants Management, Office of Native American Programs, Office of Public and Indian Housing, Department of Housing and Urban Development, 1670 Broadway Denver, CO 80202, telephone (303) 675-1600.

TABLE 1.
Housing authority code | Housing authority name and hurricane disaster area* | Regulatory waivers granted | Date acceptable notification received
AL165 | Foley Housing Authority (K) | 1-4, 8, 10,14,15 | 1/13/06
FL013 | Housing Authority City of Key West (W) | 1-5, 9,14,15 | 3/22/06
FL017 | Housing Authority City of Miami Beach (W) | 4 | 3/23/06
FL021 | Pahokee Housing Authority (W) | 4,13,14 | 3/30/06
FL025 | Housing Authority of the City of Titusville (W) | 4 | 3/14/06
FL066 | Hialeah Housing Authority (W) | 1-5, 8, 13,14,15 | 3/21/06
FL076 | Riviera Beach Housing Authority | 4,5,6,8,9 | 3/27/06
FL136 | Hollywood Housing Authority (W) | 4 | 3/24/06
FL144 | Monroe County Housing Authority (W) | 1-5, 9,14,15 | 3/22/06
LA003 | East Baton Rouge Housing Authority (K) | 4 | 1/4/06
LA043 | Donaldson Housing Authority (K) | 3,4,6,7,10,11 | 1/4/06
LA063 | Sulphur Housing Authority (K) | 3,4,12,14 | 2/12/06
LA065 | Housing Authority of the town of Delcambre (R) | 1,5,8,15 | 3/6/06
LA084 | Parks Housing Authority (R) | 2-5, 8,10 | 3/21/06
LA221 | Morgan City Housing Authority (K) | 11,14,15 | 1/13/06
LA238 | Covington Housing Authority (K) | 3,4,14,15 | 1/19/06
LA261 | Fenton Housing Authority (R) | 4,8,10 | 3/16/06
MS067 | Richton Housing Authority (K) | 6 | 3/29/06
MS109 | Long Beach Housing Authority (K) | 1-5, 8-15 | 2/17/06
TX223 | Newton Housing Authority (R) | 4,8 | 3/9/06
TX225 | Woodville Housing Authority (R) | 4,8 | 3/10/06
TX492 | Jasper Housing Authority | 1-3,5,8,10 | 2/15/06
* (K), (R) and (W) indicate whether the Housing Authority was located in Hurricane Katrina, Rita, or Wilma disaster area.

• Regulation: 24 CFR 902.20.

Project/Activity: Fort Walton Beach Housing Authority (FL069), Fort Walton Beach, FL.

Nature of Requirement: The objective of this regulation is to determine whether a housing authority (HA) is meeting the standard of decent, safe, sanitary, and in good repair. The Real Estate Assessment Center (REAC) provides for an independent physical inspection of a HA's property of properties that includes a statistically valid sample of the units.

Granted By: Orlando J. Cabrera, Assistant Secretary for Public and Indian Housing.

Date Granted: January 30, 2006.

Reason Waived: Four hurricanes caused extensive damage to HA's properties in 2004. The HA requested a waiver from physical inspections because it still has 33 units remaining to be repaired as a result of the hurricanes. Initially, a lack of funds caused a delay in completing the necessary renovations. Additionally, the aftermath of Hurricane Katrina has slowed the available manpower, supplies and materials needed to complete the work. The HA requested and received approval waiving physical inspections for fiscal year ending June 30, 2006. It was determined that no physical inspections will be conducted for fiscal year 2006, but will resume for the FYE June 30, 2007, assessment cycle.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: Archer City Housing Authority (TX094), Archer City, TX.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: February 10, 2006.

Reason Waived: The HA requested a waiver of the audited financial submission due date of December 31, 2005, for FYE March 31, 2005 because it received less than $500,000 in federal grants. As such, the HA requested a change to its submission type to “No Audit Required.” The HA should have requested a change prior to the submission due date to avoid receiving a Late Presumptive Failure (LPF) score of zero under the Financial Assessment Subsystem (FASS) Indicator. Because the HA was not required to have an audit because it was under the threshold of $500,000, the HA will not be penalized with a financial score of zero. The waiver allowed the HA to change its submission type to “Unaudited/No Audit.”

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: City of Newark Housing Authority (NJ002), Newark, NJ.

Nature of Requirement: The regulation establishes certain reporting compliance dates. The audited financial statements are required to be submitted no later than nine months after the housing authority's (HA) fiscal year end (FYE), in accordance with the Single Audit Act and OMB Circular A-133.

Granted By: Orlando J. Cabrera, Assistant Secretary for Public and Indian Housing.

Date Granted: February 24, 2006.

Reason Waived: The HA requested a six-month waiver extension of the audited financial submission due date of December 31, 2005, for FYE March 31, 2005. The reason for the waiver request is because the audit report submitted for FYE March 31, 2004, was not in accordance with Generally Accepted Accounting Principles (GAAP) as verified by a Public Housing Assessment System (PHAS) Certification review. The HA was advised to select a new firm to re-perform the audit. This action directly impacted on the submission of the unaudited financial submission for FY 2005. The six-month extension to June 30, 2006 was approved with the condition that the HA must have both an approved audit submission for FY 2004, and an approved unaudited submission for FY 2005 when the FY 2005 audit is submitted to the Real Estate Assessment Center.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.20.

Project/Activity: Housing Authority of the City of New Orleans (LA001), New Orleans, LA.

Nature of Requirement: The objective of this regulation is to determine whether a housing authority (HA) is meeting the standard of decent, safe, sanitary, and in good repair. The Real Estate Assessment Center (REAC) provides for an independent physical inspection of a HA's property of properties that includes a statistically valid sample of the units.

Granted By: Orlando J. Cabrera, Assistant Secretary for Public and Indian Housing.

Date Granted: March 8, 2006.

Reason Waived: The HA requested and was granted a waiver from having to correct identified Exigent Health and Safety (EHS) deficiencies in unoccupied units and properties. The HA asserted that due to Hurricane Katrina, it did not have the resources to correct the EHS deficiencies in occupied and in unoccupied units that may or may not be demolished. The correction of EHS deficiencies in unoccupied units and properties was therefore waived. However, because of the life-threatening nature and hazardous situations caused by the EHS deficiencies, those deficiencies in occupied units were directed to be corrected or mitigated within 24 hours of the inspection, and the HA must certify to the correction or mitigation of the EHS deficiencies within three business days of the inspection. The HA also was required to correct the EHS deficiencies in occupied units and properties during the time of the commencement of the work in order to bring the units and properties back on line and available for occupancy.

Contact: David R. Ziaya, Program Manager, NASS, Real Estate Assessment Center, Office of Public and Indian Housing, Department of Housing and Urban Development, 550 12th Street, SW., Suite 100, Washington, DC 20410-5000, telephone (202) 475-8574.

• Regulation: 24 CFR 941.606(n)(l)(ii)(B).

Project/Activity: Chicago Housing Authority's Stateway Gardens Phase 1 B aka Park Boulevard 1B, Chicago, IL.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: January 11, 2006.

Reason Waived: The Chicago Housing Authority (CHA) and Daniel E. Levin and the Habitat Company LLC, jointly as Receiver for the CHA, procured Stateway Associates LLC as the master developer for the Stateway Gardens site. Stateway Associates is a joint venture between affiliates of Mesa Development LLC, Neighborhood Rejuvenation Partners LP, Kimball Hill Development Company, and Walsh Construction Company of Illinois. CHA requested the waiver to use Walsh Construction Company as the general contractor for Phase 1B. Park Boulevard Phase 1B consists of 311 units, of which 100 will be public housing replacement units and 211 will be for-sale units. CHA and the Receiver have entered into three separate construction contracts with Walsh Construction for residential construction, site work and environmental remediation. Rise Group and Weston Solutions, Inc provided independent cost estimates, reviewed the plans and construction costs and certified that the costs for the three contracts are reasonable for the market area. The total of the three estimates is $71,617,363 and the total of the three Walsh contracts is $71,151,616, which is $465,747 less than the estimates. As Walsh Construction Company's cost was below that of the independent cost estimates, HUD's condition was satisfied.

Contact: Dominique Blom, Acting Deputy Assistant Secretary for the Office of Public Housing Investments, Office of Public and Indian Housing, Department of Housing and Urban Development, 451 Seventh Street, SW., Washington, DC 20010-5000, telephone (202) 401-8812.

• Regulation: 24 CFR 941.606(n)(l)(ii)(B).

Project/Activity: Charlotte Housing Authority's Prosperity Creek Fairview Homes HOPE VI Grant: NC19URD003I198, Charlotte, NC.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: January 24, 2006.

Reason Waived: The Charlotte Housing Authority (CHA) requested the waiver to use Wood Partners as the general contractor for Prosperity Creek, which is a phase of the Fairview Homes HOPE VI Project. The Housing Authority has partnered with Wood Partners, the owner of the Prosperity Creek site to include 24 public housing units in the new development. CHA submitted an independent cost estimate prepared by Construction Cost, Inc. for the work to be performed by Wood Partners at Prosperity Creek and the estimate totaled $12, 350,762. CHA also submitted the proposed construction contract with Wood Partners, which totaled $12,041,500 for the work included in the cost estimate. As Wood Partners' cost was below that of the independent cost estimate, HUD's condition was satisfied.

Contact: Dominique Blom, Acting Deputy Assistant Secretary for the Office of Public Housing Investments, Office of Public and Indian Housing, Department of Housing and Urban Development, 451 Seventh Street, SW., Washington, DC 20010-5000, telephone (202) 401-8812.

• Regulation: 24 CFR 941.606(n)(l)(ii)(B).

Project/Activity: Charlotte Housing Authority's Montgomery Gardens Fairview Homes HOPE VI Grant: NC19URD003I198, Charlotte, NC.

Nature of Requirement: The provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: March 7, 2006.

Reason Waived: The Charlotte Housing Authority (CHA) requested the waiver to use Crosland Contracting as the general contractor for Montgomery Gardens, which is a phase of the Fairview Homes HOPE VI Project. Crosland Contracting is an affiliate of Crosland, Inc., the master developer for the Fairview Homes HOPE VI site. Crosland Inc. will be developing a 76-unit affordable housing development, of which 20 will be public housing units. CHA submitted an independent cost estimate prepared by Construction Cost, Inc. for the work to be performed and the estimate totaled $6,304,013. CHA also submitted the proposed construction contract with Crosland Contracting, which totaled $6,159,582 for construction of Montgomery Gardens. As Crosland Contracting's cost was below that of the independent cost estimate, HUD's condition was satisfied.

Contact: Dominique Blom, Acting Deputy Assistant Secretary for the Office of Public Housing Investments, Office of Public and Indian Housing, Department of Housing and Urban Development, 451 Seventh Street, SW., Washington, DC 20010, telephone (202) 401-8812.

• Regulation: 24 CFR 970.9(b).

Project/Activity: Mankato Economic Development Agency (EDA) Housing Authority's Disposition of 0.18 Acre of Vacant Land at Orness Plaza and Scattered Family Site, MN063001, PIC Application DDA0001765.

Nature of Requirement: Under section 18 (a)(5) of the Housing Act of 1937, the Secretary may waive the requirement for the application of proceeds of sale for the repayment of outstanding debt used to finance the development and/or modernization of the development. The proceeds must be used for the provision of low-income housing or to benefit the residents of the public housing agency (PHA), or for leveraging amounts for securing commercial enterprises, on-site, in public housing projects of the PHA, that are appropriate to serve the needs of the residents.

Granted By: Orlando J. Cabrera, Assistant Secretary for Public and Indian Housing.

Date Granted: March 16, 2006.

Reason Waived: Mankato EDA Housing Authority proposes the disposition of 0.18 of an acre of vacant land at Orness Plaza and Scattered Site, MN063001. The Chief Financial Office record indicates that the development's outstanding debt is $88,252.27. The development was financed by HUD held project notes and the issue of new housing authority bonds. The HUD held project notes has been forgiven. The bonds are dated February 1, 1971 and mature February 1, 2012. The original issue was $2,405,675 at a rate of five percent. The Special Applications Center (SAC) recommended that the requirement to repay the debt for the development be waived. The Department waived the requirement for the repayment of debt with any proceeds that are generated from this sale, with the understanding that net proceeds will be used in accordance with the statute.

Contact: Dominique Blom, Acting Deputy Assistant Secretary for the Office of Public Housing Investments, Office of Public and Indian Housing, Department of Housing and Urban Development, 451 Seventh Street, SW., Washington, DC 20010, telephone (202) 401-8812.

• Regulation: 24 CFR 970.9(b).

Project/Activity: Dayton Metropolitan Housing Authority's Disposition of 2 Buildings containing 12 units at Scattered Sites, OH005013, PIC Application DDA000958.

Nature of Requirement: Under Section 18 (a)(5) of the U.S. Housing Act of 1937, the Secretary may waive the requirement for the application of proceeds of sale for the repayment of outstanding debt used to finance the development and/or modernization of the development. The proceeds must be used for the provision of low-income housing or to benefit the residents of the public housing agency (PHA), or for leveraging amounts for securing commercial enterprises, on-site, in public housing projects of the PHA, that are appropriate to serve the needs of the residents.

Granted By: Orlando J. Cabrera, Assistant Secretary for Public and Indian Housing.

Date Granted: March 16, 2006

Reason Waived: The Dayton Metropolitan Housing Authority (DMHA) proposes disposition of two buildings containing 12 units at Scattered Sites, OH0055013. According to the Office of Finance and Accounting, the development's outstanding debt is $1,128,563. The DMHA proposes to dispose of this site at fair market value via public bid for $144,000. In the application, the DMHA proposes to use the proceeds of sale from Scattered Sites, OH005013, towards modernization of Scattered Sites (Woodview), OH005015. The SAC has determined that the use of proceeds meets the requirements of the statute and the disposition application is approvable. The Department waives for good cause, pursuant to 24 CFR, Section 5.1000, the requirement for the repayment of debt with any proceeds that are generated from this sale, with the understanding that net proceeds will be used in accordance with the statute.

Contact: Dominique Blom, Acting Deputy Assistant Secretary for the Office of Public Housing Investments, Office of Public and Indian Housing, Department of Housing and Urban Development, 451 Seventh Street, SW., Washington, DC 20010-5000, telephone (202) 401-8812.

• Regulation: 24 CFR 970.9 (b)

Project/Activity: Las Vegas Housing Authority's Disposition of 8.13 Acres of Vacant Land at Ernie Cragin Terrace, NV002011, PIC Application DDA0001614.

Nature of Requirement: Under Section 18 (a)(5) of the U.S. Housing Act of 1937, the Secretary may waive the requirement for the application of proceeds of sale for the repayment of outstanding debt used to finance the development and/or modernization of the development. The proceeds must be used for the provision of low-income housing or to benefit the residents of the public housing agency (PHA), or for leveraging amounts for securing commercial enterprises, on-site, in public housing projects of the PHA, that are appropriate to serve the needs of the residents.

Granted By: Orlando J. Cabrera, Assistant Secretary for Public and Indian Housing.

Date Granted: March 16, 2006.

Reason Waived: The Las Vegas Housing Authority proposes the disposition of 8.13 acres of vacant land at Ernie Cragin Terrace, NV 002011. The Chief Financial Office record indicates that the development's outstanding debt is $330,409.61. The development was financed by HUD held project notes and the issue of new housing authority bonds. The HUD held project notes are forgiven. The bonds are dated January 1, 1971 and mature January 1, 2012. The original issue was $1,024,522 at a rate of 5 percent. The SAC recommended that the requirement to repay the debt for the development be waived. The Department waived the requirement for the repayment of debt with any proceeds that are generated from this sale, with understanding that net proceeds will be used in accordance with the statute.

Contact: Dominique Blom, Acting Deputy Assistant Secretary for the Office of Public Housing Investments, Office of Public and Indian Housing, Department of Housing and Urban Development, 451 Seventh Street, SW., Washington, DC 20010-5000, telephone (202) 401-8812.

• Regulation: 24 CFR 970.9(b).

Project/Activity: Biloxi Housing Authority's Demolition of 112 Units and 1 Non-Residential Building and the Disposition of 6.5 Acres of Land at Back Bay Place, MS005008-2, PIC Application DDA0001776.

Nature of Requirement: Under section 18 (a)(5) of the U.S. Housing Act of 1937, the Secretary may waive the requirement for the application of proceeds of sale for the repayment of outstanding debt used to finance the development and/or modernization of the development. The proceeds must be used for the provision of low-income housing or to benefit the residents of the public housing agency (PHA), or for leveraging amounts for securing commercial enterprises, on-site, in public housing projects of the PHA, that are appropriate to serve the needs of the residents.

Granted By: Orlando J. Cabrera, Assistant Secretary for Public and Indian Housing.

Date Granted: March 16, 2006.

Reason Waived: The Biloxi Housing Authority (BHA) proposes the disposition of 6.5 acres of vacant land at the fair market value of $3,500,000 via a public bid. The BHA proposes to use the proceeds of sale for the acquisition of land, in a less flood-prone area in Biloxi, in order to reconstruct the affordable housing units that were destroyed as a result of Hurricane Katrina. According to the Office of Finance and Accounting, the development's outstanding debt is $934,003.27 for project MS005008-2. The SAC recommended that the requirement to repay the debt for the development be waived. The Department waived the requirement for the repayment of debt with any proceeds that are generated from this sale, with the understanding that net proceeds will be used in accordance with the statute.

Contact: Dominique Blom, Acting Deputy Assistant Secretary for the Office of Public Housing Investments, Office of Public and Indian Housing, Department of Housing and Urban Development, 451 Seventh Street, SW., Washington, DC 20010-5000, telephone (202) 401-8812.

• Regulation: 24 CFR 970.9(b).

Project/Activity: Warwick Housing Authority's Disposition of 2 Buildings, Housing 26 Units at Father Olsen Terrace, RI011007.

Nature of Requirement: Under Section 18 (a)(5) of U.S. Housing Act of 1937, the Secretary may waive the requirement for the application of proceeds of sale for the repayment of outstanding debt used to finance the development and/or modernization of the development. The proceeds must be used for the provision of low-income housing or to benefit the residents of the public housing agency (PHA), or for leveraging amounts for securing commercial enterprises, on-site, in public housing projects of the PHA, that are appropriate to serve the needs of the residents.

Granted By: Orlando J. Cabrera, Assistant Secretary for Public and Indian Housing.

Date Granted: March 29, 2006.

Reason Waived: The Warwick Housing Authority (WHA) proposes the disposition of two residential buildings housing 26 units at Father Olsen Terrace, RI0011007 to the New England School of Technology (NEST), via a negotiated sale, at the Fair Market Value of $1,510,000. WHA plans on using the proceeds generate from this disposition to construct new housing units for low-income housing families in the community. According to the Chief Financial Office, the development's outstanding debt is $315,415.90 for project notes to the Federal Financing Bank. The note is dated October 8, 1982, and will mature November 1, 2014. The original issue was for $576,718.45 at a rate of 6.600 percent. The SAC recommended that the requirement to repay the dept for the development be waived. The Department waived the requirement for the repayment of debt with any proceeds that are generated from this sale, with the understanding that net proceeds will be used in accordance with the statute.

Contact: Dominique Blom, Acting Deputy Assistant Secretary for the Office of Public Housing Investments, Office of Public and Indian Housing, Department of Housing and Urban Development, 451 Seventh Street, SW., Washington, DC 20010-5000, telephone (202) 401-8812.

• Regulation: 24 CFR 982.505(c)(4).

Project/Activity: Wayne Metropolitan Housing Authority (WMHA), Wooster, OH. WMHA requested a waiver of this regulation so that it could apply increased payment standards immediately rather than wait for the family's next regular annual reexamination.

Nature of Requirement: Section 982.505(c)(4) provides that if the payment standard amount is increased during the term of the housing assistance payments (HAP) contract, the increased payment standard amount shall be used to calculate the monthly HAP for the family beginning at the effective date of the family's first regular reexamination on or after the effective date of the increase in the payment standard amount.

Granted By: Orlando Cabrera, Assistant Secretary for Public and Indian Housing.

Date Granted: February 10, 2006.

Reason Waived: Since the WMHA's HAP costs stabilized, it intended to increase its payment standards to 100 percent of the current published fair market rents for all bedroom sizes. A waiver quickly alleviated the rent burden on families that were affected by paying a greater share toward their gross rent.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.55(b) of the old project-based voucher (PBV) regulations and the same section of the PBV final rule published in the Federal Register on October 13, 2005.

Project/Activity: Housing Authority of Americus (HAA), Americus, GA. The HAA requested a waiver of this regulation so that it could attach PBV to units at East Oak Apartments.

Nature of Requirement: Section 983.55(b) of both rules states that the appropriate subsidy layering review be completed prior to the execution of an agreement to enter into a housing assistance payments contract (AHAP).

Granted By: Orlando Cabrera, Assistant Secretary for Public and Indian Housing.

Date Granted: January 4, 2006.

Reason Waived: The waiver was granted because the HAA subsequently submitted this project to HUD Headquarters for the appropriate subsidy layering review on October 11, 2005, and the AHAP was executed in good faith pursuant to a subsidy layering review, albeit one that was not originally conducted by the proper entity.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 1000.312.

Project/Activity: The Gila River Indian Community's (the Tribe) units built with funding provided under the U.S. Housing Act of 1937 (1937 Act). The Tribe is located in Sacaton, Arizona.

Nature of Requirement: The regulation at 24 CFR 1000.312 requires that only units owned or operated pursuant to an Annual Contributions Contract (ACC) may be included as Formula Current Assisted Stock (FCAS).

Granted By: Orlando Cabrera, Assistant Secretary for Public and Indian Housing.

Date Granted: March 8, 2006.

Reason Waived: Ten units built in 1986 with 1937 Act funding are uninhabitable due to extreme foundation problems and will need to be demolished and rebuilt. The Tribe and a structural engineering consulting firm determined that the deficiencies are extreme and pose a serious threat to the health and safety of the residents. The Tribe is seeking continued FCAS funding for seven of the affected units that have current homebuyer agreements. The units will be rebuilt with Indian Housing Block Grant (IHBG) funds and will remain under management of the housing authority.

Contact: Deborah Lalancette, Director, Grants Management, Headquarters Office of Native American Programs (ONAP) Denver, Department of Housing and Urban Development, 1670 Broadway, 23rd Floor, Denver, CO 80202; telephone (303) 675-1625.

[FR Doc. 06-5932 Filed 7-3-06; 8:45 am]

BILLING CODE 4210-67-P